DEPARTMENT OF HEALTH AND HUMAN SERVICES

Administration for Children and Families

Submission for OMB Review; National Directory of New Hires

AGENCY: Office of Child Support Enforcement; Administration for Children and Families; HHS.

ACTION: Request for public comment.

SUMMARY: The Office of Child Support Enforcement; Administration for Children and Families (ACF) is requesting a three-year extension of the National Directory of New Hires (OMB #0970-0166, expiration 7/31/2019). The NDNH Guide for Data Submission/Record Specifications and the Multistate Employer Registration form underwent minor revisions.

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent directly to the following: Office of Management and Budget, Paperwork Reduction Project, Email: OIRA_SUBMISSION@OMB.EOP.GOV, Attn: Desk Officer for the Administration, for Children and Families.

Copies of the proposed collection may be obtained by emailing infocollection@acf.hhs.gov. Alternatively, copies can also be obtained by writing to the Administration for Children and Families, Office of Planning, Research, and Evaluation, 330 C Street SW, Washington, DC 20201, Attn: OPRE Reports Clearance Officer. All requests, emailed or written, should be identified by the title of the information collection.

SUPPLEMENTARY INFORMATION:

Description: The federal Office of Child Support Enforcement operates the National Directory of New Hires (NDNH), which is a centralized directory of employment and wage information. The information maintained in the NDNH is collected electronically and helps child support agencies locate parents and enforce child support orders. NDNH information is also used for authorized purposes by specific state and federal agencies to help administer certain programs authorized under 42 U.S.C. 653(i)(1).

Respondents: Employers, State Child Support Agencies, and State Workforce Agencies.

Annual Burden Estimates
Instrument | Number of respondents | Rounded number of responses per respondent | Average burden hours per response | Total
New Hire: Employers Reporting Manually | 5,265,682 | 1.39 | .025 hours (1.5 minutes) | 182,982.45
New Hire: Employers Reporting Electronically | 635,049 | 103.46 | .00028 hours (1 second) | 18,396.61
New Hire: States | 54 | 135,185.19 | .017 hours (1 minute) | 124,100.00
Quarterly Wage (QW) & Unemployment Insurance (UI) | 53 | 26.00 | .00028 hours (1 second) | 0.39
Multistate Employer Registration Form | 4,075 | 1.00 | .050 hours (3 minutes) | 203.75

Estimated Total Annual Burden Hours: 325,683.

Authorities: 42 U.S.C. 653A(b)(1)(A) and (B); 42 U.S.C. 653A(g)(2)(A); 26 U.S.C. 3304(a)(16)(B); 42 U.S.C. 503(h)(1)(A); and, 42 U.S.C. 653A(g)(2)(B).

Mary B. Jones,
ACF/OPRE Certifying Officer.

[FR Doc. 2019-10701 Filed 5-21-19; 8:45 am]

BILLING CODE 4184-41-P